DEPARTMENT OF ENERGY

Federal Energy Regulatory Commission

[Docket No. EL18-20-000]

Indicated SPP Transmission Owners v. Southwest Power Pool, Inc.; Notice of Complaint

Take notice that on October 13, 2017, pursuant to section 206 of the Federal Power Act, 16 U.S.C. 824(e), and Rule 206 of the Federal Energy Regulatory Commission's (Commission) Rules of Practice and Procedure, 18 CFR 385.206, Indicated SPP Transmission Owners (Complainant) ¹ filed a formal complaint against Southwest Power Pool, Inc., (SPP or Respondent) seeking revision of SPP's Open Access Transmission Tariff to prevent cost shifts occurring when new SPP Transmission Owners are added to existing transmission pricing zones, all as more fully explained in the complaint.

¹ The Indicated SPP Transmission Owners are identified as: American Electric Power Service Company, on behalf of Public Service Company of Oklahoma and Southwestern Electric Power Company; City Utilities of Springfield, Missouri; Kansas City Power & Light Company; KCP&L Greater Missouri Operations Company; Nebraska Public Power District; Oklahoma Gas & Electric Company; Omaha Public Power District; Southwestern Public Service Company; Sunflower Electric Power Corporation, LLC; Mid-Kansas Electric Company, LLC; Westar Energy, Inc.; and Western Farmers Electric Cooperative.

Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 2, 2017.

Dated: October 18, 2017.
Nathaniel J. Davis, Sr.,
Deputy Secretary.

[FR Doc. 2017-22986 Filed 10-23-17; 8:45 am]

BILLING CODE 6717-01-P